NATIONAL COUNCIL ON DISABILITY

Sunshine Act Meetings

DATE AND TIMES: July 28, 2010, 2 p.m.-6 p.m.

PLACE: Renaissance Washington, DC Downtown Hotel, 999 9th Street, NW., Washington, DC.

STATUS: Open to the public.

MATTERS TO BE CONSIDERED: (1) National Summit on Disability Policy 2010 Evaluation; (2) Council Strategic Planning.

CONTACT PERSON FOR MORE INFORMATION: Mark Quigley, Director of Communications, NCD, 1331 F Street, NW., Suite 850, Washington, DC 20004; 202-272-2004, 202-272-2074 (TTY).

Dated: July 7, 2010.
Joan M. Durocher,
Executive Director.

[FR Doc. 2010-17204 Filed 7-9-10; 4:15 pm]

BILLING CODE 6820-MA-P